DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Pacific Islands Region Seabird-Fisheries Interaction Recovery Reporting.

Form Number(s): None.

OMB Approval Number: 0648-0456.

Type of Request: Regular submission.

Burden Hours: 3.

Number of Respondents: 1.

Average Hours Per Response: 3 hours.

Needs and Uses: The seabird mitigation measures to reduce interactions between seabirds and the Hawaii-based pelagic longline fishery, include a requirement for longline vessel operators to notify NMFS in the event an endangered short-tailed albatross (STAL) is hooked or entangled during fishing operations. Following the retrieval of a STAL from the ocean, as required by Federal regulations, the vessel captain must record the condition of the injured STAL on the recovery data form. The information is used by a veterinarian in providing advice to the captain caring for the STAL. If the albatross is dead, the vessel captain must attach an identification/information tag to the STAL carcass, as well as the specimen bag, to assist the U.S. Fish and Wildlife Service (FWS) biologists in follow-up studies on the specimen. This collection is one of the terms and conditions contained in a biological opinion issued by FWS.

Affected Public: Business or other for-profit organizations; individuals or households.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 20, 2005.
Gwellnar Banks,
Management Analyst, Office of the Chief Information Officer.

[FR Doc. 05-14651 Filed 7-25-05; 8:45 am]

BILLING CODE 3510-22-P